DEPARTMENT OF TRANSPORTATION

Surface Transportation Board

[Docket No. FD 35922]

Western Washington Railroad, LLC—Operation Exemption—Port of Chehalis

Western Washington Railroad, LLC (WWRR) has filed a verified notice of exemption under 49 CFR 1150.41 to operate, pursuant to a sublicense agreement dated May 6, 2014,¹ with the Chehalis-Centralia Railroad & Museum (CCRM), a noncarrier excursion train operator, approximately 10.2 miles of rail line owned by the Port of Chehalis (the Port) between milepost 0.0 at the junction with the City of Tacoma's rail line (Tacoma Rail milepost 67.0) and milepost 10.2 in Curtis, Lewis County, Wash.

¹ This notice was originally filed on July 13, 2015. On July 27, 2015, in order to clarify the nature of the rights being acquired, WWRR filed a redacted and an unredacted version of the agreement. On the same date, WWRR filed a motion for protective order pursuant to 49 CFR 1104.14(b) to allow the filing under seal of the unredacted agreement. In a decision served on August 12, 2015, the Board granted the motion for a protective order. On the same date, the Board also served a decision to hold the proceeding in abeyance, and directed WWRR to file supplemental information by September 1, 2015, to inform the Board why it postponed seeking Board authorization to operate on the Line and whether the parties need Board authorization for any agreements incorporated into the sublicense agreement by reference. The supplemental information was submitted to the Board on August 31, 2015.

WWRR states that neither the sublicense agreement between WWRR and CCRM nor the license agreement between CCRM and the Port contain any provision that prohibits WWRR from interchanging traffic with a third party or that limits WWRR's ability to interchange with a third party. WWRR also states that the Port has provided its consent to the sublicense agreement.

The parties may consummate the transaction on or after September 30, 2015, the effective date of this exemption (30 days after the verified notice was filed).

WWRR certifies that the projected annual revenues as a result of this transaction will not result in WWRR's becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by September 23, 2015 (at least seven days prior to the date the exemption becomes effective).

An original and 10 copies of all pleadings, referring to Docket No. FD 35922, must be filed with the Surface Transportation Board, 395 E Street SW., Washington, DC 20423-0001. In addition, a copy of each pleading must be served on applicant's representative, W. Karl Hansen, Stinson Leonard Street LLP, 150 South Fifth Street, Suite 2300, Minneapolis, MN 55402.

Board decisions and notices are available on our Web site at “WWW.STB.DOT.GOV.”

Decided: September 11, 2015.
By the Board, Rachel D. Campbell, Director, Office of Proceedings.
Tia Delano,
Clearance Clerk.

[FR Doc. 2015-23266 Filed 9-15-15; 8:45 am]

BILLING CODE 4915-01-P